DEPARTMENT OF TRANSPORTATION

Federal Aviation Administration

14 CFR Part 71

[Docket No. FAA-2003-14346; Airspace Docket No. 2003-ANE-101]

Amendment to Class E Airspace; Presque Isle, ME

AGENCY: Federal Aviation Administration (FAA), DOT.

ACTION: Direct final rule; confirmation of effective date.

SUMMARY: This notice confirms the effective date of a direct final rule revising the Class E airspace area at the Northern Maine Regional Airport in Presque Isle, Maine (KPQI), to eliminate reference to the new closed Rogers Airport.

EFFECTIVE DATE: The direct final published at 68 FR 10654 is effective 0901 UTC, May 15, 2003.

FOR FURTHER INFORMATION CONTACT: David T. Bayley, Air Traffic Division, Airspace Branch, ANE-520, Federal Aviation Administration, 12 New England Executive Park, Burlington, MA 01803-5299; telephone: (781) 238-7552; fax (781) 238-7596.

SUPPLEMENTARY INFORMATION: The FAA published this direct final rule with a request for comments in the Federal Register on March 6, 2003 (Vol. 68, No. 44, FR 10654). The FAA uses the direct final rulemaking procedure for a non-controversial rule where the FAA believes that there will be no adverse public comment. This direct final rule advised the public that no adverse comments were anticipated, and that unless a written adverse comment, or a written notice of intent to submit such an adverse comment, were received within the comment period, the regulation would become effective on May 15, 2003. No adverse comments were received, and thus this notice confirms that this direct final rule will become effective on that date.

Issued in Burlington, MA, on April 16, 2003.
William C. Yuknewicz,
Acting Manager, Air Traffic Division, New England Region.

[FR Doc. 03-10451 Filed 4-28-03; 8:45 am]

BILLING CODE 4910-13-M